DEPARTMENT OF ENERGY

Federal Energy Regulatory Commission

[Docket No. RP99-106-011]

TransColorado Gas Transmission Company; Notice of Corrected Revenue Sharing Report

August 10, 2005.

Take notice that on August 3, 2005, TransColorado Gas Transmission Company (TransColorado) tendered for filing a corrected version of its annual revenue sharing report in accordance with the provisions of the Settlement in Docket No. RP99-106 and the Commission's Order dated April 24, 2002.

TransColorado states that the corrected version of the report is intended to correct an error in the original version of the annual revenue sharing report that was submitted on June 1, 2005, and approved by the Commission in a letter order in Docket No. RP99-106-010, dated July 12, 2005. TransColorado requests expedited Commission action on the corrected annual revenue sharing report and commits to make refunds to its shippers within 10 days of Commission acceptance of the corrected annual revenue sharing report.

TransColorado states that a copy of this filing has been served upon all parties listed on the official service list in this proceeding.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. Eastern Time on August 17, 2005.

Linda Mitry,
Deputy Secretary.

[FR Doc. E5-4455 Filed 8-15-05; 8:45 am]

BILLING CODE 6717-01-P